DEPARTMENT OF ENERGY

Federal Energy Regulatory Commission

[Docket No. EC03-69-000, et al.]

FPL Energy Seabrook, LLC, et al.; Electric Rate and Corporate Filings

March 25, 2003.

The following filings have been made with the Commission. The filings are listed in ascending order within each docket classification.

1. FPL Energy Seabrook, LLC and FPL Energy New England Transmission, LLC

[Docket No. EC03-69-000]

Take notice that on March 21, 2003, FPL Energy Seabrook, LLC and FPL Energy New England Transmission, LLC tendered for filing with the Federal Energy Regulatory Commission (Commission) pursuant to section 203 of the Federal Power Act a request for authorization to engage in an intra-corporate transfer of jurisdictional facilities whereby FPL Energy Seabrook, LLC will transfer its undivided interest in the interconnecting transmission facilities for Seabrook Station to its direct, wholly-owned subsidiary FPL Energy New England Transmission, LLC.

Comment Date: April 11, 2003.

2. Almagre Power Holdings, LLC, Mesquite Colorado HoldCo, L.L.C., Mesquite Investors, L.L.C.

[Docket No. EC03-70-000]

Take notice that on March 21, 2003, Almagre Power Holdings, LLC (Almagre), Mesquite Colorado HoldCo, L.L.C. (Mesquite Colorado) and Mesquite Investors, L.L.C. (Mesquite Investors) (jointly, Applicants) filed with the Federal Energy Regulatory Commission (Commission) an application pursuant to Section 203 of the Federal Power Act for authorization to effectuate a transfer of all of Mesquite Colorado's membership interests in Front Range Power Company, L.L.C. (Front Range) from Mesquite Colorado to Almagre. Applicants also requested expedited consideration of the Application and privileged treatment for certain exhibits pursuant to 18 CFR 33.9 and 388.112.

Comment Date: April 11, 2003.

3. Jamaica Bay Peaking Facility, LLC

[Docket No. EG03-49-000]

Take notice that on March 20, 2003 Jamaica Bay Peaking Facility, LLC (the Applicant), with its principal offices at 700 Universe Boulevard, Juno Beach, Florida 33408, filed with the Federal Energy Regulatory Commission (Commission) an application for a determination of exempt wholesale generator status pursuant to part 365 of the Commission's regulations.

The Applicant states that it is a Delaware corporation and is the owner and operator of a nominal 54 megawatt dual fuel (oil and gas) fired simple cycle peak electric generating facility (Facility) to be located in Far Rockaway, Queens County, New York. The Facility will sell energy, capacity, and ancillary services into the wholesale generation market.

Comment Date: April 15, 2003.

4. FPL Energy New England Transmission, LLC

[Docket No. EG03-50-000]

Take notice that on March 21, 2003, FPL Energy New England Transmission, LLC, c/o FPL Energy, LLC, 700 Universe Boulevard, Juno Beach, FL 33408, filed with the Federal Energy Regulatory Commission (Commission) an application for determination of exempt wholesale generator status pursuant to part 365 of the Commission's regulations.

The applicant states that it is a limited liability company that will engage directly or indirectly and exclusively in the business of owning and/or operating eligible facilities in the United States. The applicant proposes to own an undivided interest in the interconnecting transmission facilities of the Seabrook Nuclear Generating Station, an undivided interest of which is owned by the applicant's parent, FPL Energy Seabrook, LLC.

Comment Date: April 15, 2003.

5. Midwest Independent Transmission System Operator, Inc.

[Docket No. ER02-1420-003]

Take notice that on March 21, 2003, Oklahoma Gas and Electric Company (OGE) filed a Supplemental Status Report informing the Commission of recent developments with regard to OGE's efforts to join the Midwest ISO.

OGE states that a copy of the filing has been served on all parties to this proceeding, and on the Arkansas Public Service Commission and the Oklahoma Corporation Commission.

Comment Date: April 11, 2003.

6. ISO New England

[Docket No. ER02-2330-010]

Take notice that on March 20, 2003, ISO New England Inc., submitted a compliance filing providing a status report on the implementation of Standard Market Design in New England.

Comment Date: April 10, 2003.

7. ISO New England Inc.

[Docket No. ER02-2330-011]

Take notice that on March 20, 2003, ISO New England Inc. submitted a compliance report on its consideration of a Federal Energy Regulatory Commission (Commission) proposed scarcity premium proposal in response to the requirements of the Commission's Order dated December 20, 2002.

New England Inc., states that copies of said filing have been served upon all parties to this proceeding, and upon NEPOOL Participants.

Comment Date: April 10, 2003.

8. Northern Indiana Public Service Company

[Docket No. ER03-640-000]

Take notice that on March 21, 2003, Northern Indiana Public Service Company (Northern Indiana) filed a Service Agreement for Network Integration Transmission Service, a Network Operating Agreement, and Services Agreement with the Town of Argos, Indiana (Argos). Northern Indiana has requested an effective date of March 1, 2003.

Northern Indiana states that copies of this filing have been sent to Argos, the Indiana Utility Regulatory Commission, and the Indiana Office of Utility Consumer Counselor.

Comment Date: April 11, 2003.

9. Southern Company Services, Inc.

[Docket No. ER03-641-000]

Take notice that on March 21, 2003, Southern Company Services, Inc., acting on behalf of Alabama Power Company, Georgia Power Company, Gulf Power Company, Mississippi Power Company, and Savannah Electric and Power Company (collectively referred to as Operating Companies), tendered for Commission review information and replacement tariff sheets concerning the accrual of post-retirement benefits other than pensions as set forth in Statement of Financial Accounting Standard No. 106 by the Financial Accounting Standards Board in agreements and tariffs of the Operating Companies (jointly and individually). The following Commission approved rate schedules are affected:

Alabama Power—RateSchedule No. 145

Georgia Power—RateSchedule No. 803

Georgia Power—RateSchedule Nos. 824, 825 and 826

Georgia Power—RateSchedule Nos. 836, 837, and 838

Gulf Power—RateSchedule No. 82

Gulf Power—RateSchedule No. 84

Mississippi Power—RateSchedule No. 135

SoCos.—RateSchedule No. 15

SoCos.—RateSchedule No. 30

SoCos.—RateSchedule No. 33

SoCos.—RateSchedule No. 47

SoCos.—RateSchedule No. 51

SoCos.—RateSchedule No. 53

SoCos.—RateSchedule No. 59

SoCos.—RateSchedule No. 62

SoCos.—RateSchedule No. 70

SoCos.—RateSchedule No. 76

SoCos.—RateSchedule No. 77

SoCos—RateSchedule No. 93

Comment Date: April 11, 2003.

10. American Electric Power Service Corporation

[Docket No. ER03-642-000]

Take notice that on March 21, 2003, American Electric Power Service Corporation (AEPSC) on its own behalf and on behalf of AEP Texas Central Company (AEPTC), formerly Central Power and Light Company (CPL) submitted for filing to the Federal Energy Regulatory Commission (Commission) an interconnection agreement (Agreement) between CPL and the City of Brownsville, Texas (Brownsville) that includes a Facility Schedule No. 5 that provides for a new point of interconnection located at Brownsville's soon to be completed Palo Alto Substation. AEPSC states that no changes other than the addition of Facility Schedule No. 5 have been made to the interconnection agreement presently on file at the Commission that has been in effect since April 4, 2001. Additionally AEPSC has re-designated the Agreement to be a service agreement under the Open Access Transmission Service Tariff of the American Electric Power System whereby requiring it to cancel the interconnection agreement presently on file at the Commission that is designated as a CPL rate schedule.

AEPSC seeks an effective date of March 17, 2003 for the Agreement and the Notice of Cancellation. AEPSC seeks waiver of the Commission's notice requirements if the Palo Alto Substation is not energized on the expected date in June 2003. AEPSC states that it has served copies of the filing on Brownsville and the Public Utility Commission of Texas.

Comment Date: April 11, 2003.

11. New York Independent System Operator, Inc.

[Docket No.ER03-647-000]

Take notice that on March 21, 2003, the New York Independent System Operator, Inc. (NYISO) filed revisions to its ISO Market Administration and Control Area Services Tariff (the Services Tariff) to implement the “ICAP Demand Curve”. The NYISO has requested that the Commission expedite its review of this filing to permit an effective date in less than sixty days. Accordingly, the NYISO has requested an effective date of May 21, 2003, or the date that the Commission issues an Order accepting the filing, whichever is earlier.

The NYISO states it has served a copy of this filing upon all parties that have executed service agreements under the NYISO's Open Access Transmission Tariff or the Services Tariff and upon the New York State Public Service Commission.

Comment Date: April 11, 2003.

12. ZWHC LLC

[Docket No. QF87-365-006]

Take notice that on March 20, 2003, ZWHC LLC (ZWHC) filed with the Federal Energy Regulatory Commission (Commission) an application for recertification of a facility as a qualifying small power production facility pursuant to Section 292.207 of the Commission's regulations. No determination has been made that the submittal constitutes a complete filing. ZWHC states that the facility is a 18 MW wind energy generating facility in the Tehachapi Mountains, Kern County, California. ZWHC also states that the facility is interconnected with the Southern California Edison Company. ZWHC further states that recertification is sought to reflect a change in the upstream ownership of the Facility.

Comment Date: April 21, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-7865 Filed 4-1-03; 8:45 am]

BILLING CODE 6717-01-P